DEPARTMENT OF TRANSPORTATION

Federal Aviation Administration

14 CFR Part 97

[Docket No. 31329; Amdt. No. 3920]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective September 3, 2020. The compliance date for each SIAP, associated Takeoff Minimums, and ODP is specified in the amendatory provisions.

The incorporation by reference of certain publications listed in the regulations is approved by the Director of the Federal Register as of September 3, 2020.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs.

The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) Is not a “significant regulatory action” under Executive Order 12866;(2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on August 21, 2020.
Wade Terrell,
Aviation Safety Manager, Flight Procedures & Airspace Group, Flight Technologies and Procedures Division.

Adoption of the Amendment

Accordingly, pursuant to the authority delegated to me, Title 14, Code of Federal Regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

Table 1—Estimated Annual Reporting Burden 1
AIRAC date | State | City | Airport | FDC No. | FDC date | Subject
8-Oct-20 | AZ | Coolidge | Coolidge Muni | 0/0863 | 8/14/20 | GPS RWY 23, Orig.
8-Oct-20 | AR | Harrison | Boone County | 0/0864 | 8/12/20 | RNAV (GPS) RWY 18, Orig-A.
8-Oct-20 | AR | Harrison | Boone County | 0/0865 | 8/12/20 | RNAV (GPS) RWY 36, Amdt 1.
8-Oct-20 | NE | Neligh | Antelope County | 0/0866 | 8/12/20 | RNAV (GPS) RWY 1, Orig.
8-Oct-20 | NE | Neligh | Antelope County | 0/0867 | 8/12/20 | RNAV (GPS) RWY 19, Orig.
8-Oct-20 | VT | Bennington | William H Morse State | 0/0873 | 8/11/20 | RNAV (GPS) RWY 13, Orig-D.
8-Oct-20 | NE | Cozad | Cozad Muni | 0/0874 | 8/12/20 | RNAV (GPS) RWY 13, Amdt 1A.
8-Oct-20 | NE | Cozad | Cozad Muni | 0/0875 | 8/12/20 | RNAV (GPS) RWY 31, Amdt 1B.
8-Oct-20 | NE | Cozad | Cozad Muni | 0/0877 | 8/12/20 | VOR RWY 13, Amdt 2A.
8-Oct-20 | OR | Portland | Portland Intl | 0/0885 | 8/14/20 | ILS OR LOC RWY 10L, Amdt 4B.
8-Oct-20 | OR | Portland | Portland Intl | 0/0886 | 8/14/20 | ILS OR LOC RWY 10R, Amdt 35.
8-Oct-20 | OR | Portland | Portland Intl | 0/0888 | 8/14/20 | LOC/DME RWY 21, Amdt 8C.
8-Oct-20 | OR | Portland | Portland Intl | 0/0889 | 8/14/20 | RNAV (GPS) Y RWY 10L, Amdt 2B.
8-Oct-20 | OR | Portland | Portland Intl | 0/0890 | 8/14/20 | RNAV (GPS) Y RWY 10R, Amdt 2B.
8-Oct-20 | OR | Portland | Portland Intl | 0/0892 | 8/14/20 | VOR-A, Amdt 10.
8-Oct-20 | PA | Honesdale | Cherry Ridge | 0/1352 | 7/30/20 | RNAV (GPS)-B, Orig.
8-Oct-20 | MS | West Point | Mccharen Field | 0/2151 | 7/31/20 | RNAV (GPS) RWY 36, Orig-B.
8-Oct-20 | MS | West Point | Mccharen Field | 0/2154 | 7/31/20 | RNAV (GPS) RWY 18, Orig-A.
8-Oct-20 | MS | West Point | Mccharen Field | 0/2155 | 7/31/20 | VOR/DME-B, Amdt 5B.
8-Oct-20 | KY | Lexington | Blue Grass | 0/2175 | 8/13/20 | ILS OR LOC RWY 4, Amdt 17C.
8-Oct-20 | KY | Lexington | Blue Grass | 0/2176 | 8/13/20 | ILS OR LOC RWY 22, Amdt 20C.
8-Oct-20 | KY | Lexington | Blue Grass | 0/2177 | 8/13/20 | RNAV (GPS) RWY 9, Orig- A.
8-Oct-20 | KY | Lexington | Blue Grass | 0/2180 | 8/13/20 | RNAV (GPS) RWY 22, Amdt 1B.
8-Oct-20 | FL | Naples | Naples Muni | 0/2182 | 7/31/20 | VOR RWY 23, Amdt 6E.
8-Oct-20 | FL | Naples | Naples Muni | 0/2183 | 7/31/20 | VOR RWY 5, Amdt 5A.
8-Oct-20 | ND | Pembina | Pembina Muni | 0/2184 | 8/3/20 | VOR-A, Orig.
8-Oct-20 | ND | Pembina | Pembina Muni | 0/2185 | 8/3/20 | RNAV (GPS) RWY 33, Orig-A.
8-Oct-20 | NC | New Bern | Coastal Carolina Regional | 0/2189 | 7/31/20 | VOR RWY 22, Amdt 3B.
8-Oct-20 | NC | New Bern | Coastal Carolina Regional | 0/2190 | 7/31/20 | RNAV (GPS) RWY 22, Amdt 1A.
8-Oct-20 | KY | Lexington | Blue Grass | 0/2194 | 8/13/20 | RNAV (GPS) RWY 27, Orig-A.
8-Oct-20 | KY | Lexington | Blue Grass | 0/2195 | 8/13/20 | VOR-A, Amdt 9B.
8-Oct-20 | NE | Ainsworth | Ainsworth Rgnl | 0/2204 | 8/14/20 | VOR RWY 17, Amdt 3.
8-Oct-20 | NE | Ainsworth | Ainsworth Rgnl | 0/2205 | 8/14/20 | VOR RWY 35, Amdt 4A.
8-Oct-20 | KS | Johnson | Stanton County Muni | 0/2209 | 8/14/20 | RNAV (GPS) RWY 35, Amdt 2.
8-Oct-20 | KS | Johnson | Stanton County Muni | 0/2210 | 8/14/20 | RNAV (GPS) RWY 17, Amdt 2.
8-Oct-20 | TX | Robstown | Nueces County | 0/2248 | 8/3/20 | VOR/DME-A, Amdt 3A.
8-Oct-20 | NV | Las Vegas | Henderson Executive | 0/2250 | 7/28/20 | RNAV (GPS)-B, Amdt 1A.
8-Oct-20 | IL | Fairfield | Fairfield Muni | 0/2256 | 8/3/20 | NDB RWY 9, Amdt 3B.
8-Oct-20 | MO | New Madrid | County Memorial | 0/2257 | 8/3/20 | VOR/DME-A, Amdt 4.
8-Oct-20 | OK | Seminole | Seminole Muni | 0/2260 | 8/3/20 | NDB RWY 16, Amdt 4A.
8-Oct-20 | NM | Albuquerque | Albuquerque Intl Sunport | 0/2265 | 8/3/20 | RNAV (GPS) Y RWY 8, Orig-B.
8-Oct-20 | NM | Belen | Belen Rgnl | 0/2267 | 8/3/20 | VOR-A, Amdt 1B.
8-Oct-20 | MS | Laurel | Hesler-Noble Field | 0/2269 | 7/31/20 | RNAV (GPS) RWY 13, Amdt 1B.
8-Oct-20 | MS | Laurel | Hesler-Noble Field | 0/2270 | 7/31/20 | RNAV (GPS) RWY 31, Amdt 1B.
8-Oct-20 | TX | Houston | Ellington | 0/2271 | 8/3/20 | RNAV (GPS) RWY 4, Amdt 1B.
8-Oct-20 | TX | Houston | Ellington | 0/2272 | 8/3/20 | RNAV (GPS) RWY 17R, Amdt 1B.
8-Oct-20 | TX | Houston | Ellington | 0/2273 | 8/3/20 | RNAV (GPS) RWY 35L, Amdt 1A.
8-Oct-20 | TX | Houston | Ellington | 0/2274 | 8/3/20 | TACAN RWY 4, Orig-A.
8-Oct-20 | TX | Houston | Ellington | 0/2276 | 8/3/20 | TACAN RWY 17R, Orig-A.
8-Oct-20 | TX | Houston | Ellington | 0/2277 | 8/3/20 | TACAN RWY 22, Orig-B.
8-Oct-20 | TX | Houston | Ellington | 0/2278 | 8/3/20 | TACAN RWY 35L, Orig-A.
8-Oct-20 | MI | Cheboygan | Cheboygan County | 0/2287 | 8/3/20 | RNAV (GPS) RWY 10, Amdt 3B.
8-Oct-20 | MI | Cheboygan | Cheboygan County | 0/2288 | 8/3/20 | RNAV (GPS) RWY 28, Amdt 2A.
8-Oct-20 | MI | Cheboygan | Cheboygan County | 0/2289 | 8/3/20 | VOR RWY 10, Amdt 9B.
8-Oct-20 | MI | Sault Ste Marie | Chippewa County Intl | 0/2292 | 8/3/20 | ILS OR LOC RWY 16, Amdt 8E.
8-Oct-20 | MI | Sault Ste Marie | Chippewa County Intl | 0/2294 | 8/3/20 | NDB RWY 34, Amdt 5A.
8-Oct-20 | MI | Sault Ste Marie | Chippewa County Intl | 0/2295 | 8/3/20 | RNAV (GPS) RWY 10, Orig-A.
8-Oct-20 | MI | Sault Ste Marie | Chippewa County Intl | 0/2297 | 8/3/20 | RNAV (GPS) RWY 16, Amdt 1B.
8-Oct-20 | MI | Sault Ste Marie | Chippewa County Intl | 0/2298 | 8/3/20 | RNAV (GPS) RWY 28, Orig-A.
8-Oct-20 | MI | Sault Ste Marie | Chippewa County Intl | 0/2306 | 8/3/20 | RNAV (GPS) RWY 34, Amdt 1A.
8-Oct-20 | SC | Myrtle Beach | Myrtle Beach Intl | 0/2684 | 8/14/20 | VOR/DME-A, Amdt 2.
8-Oct-20 | WI | Madison | Blackhawk Airfield | 0/2762 | 8/17/20 | VOR OR GPS-A, Orig-E.
8-Oct-20 | GA | Statesboro | Statesboro-Bulloch County | 0/2786 | 8/17/20 | ILS OR LOC RWY 32, Amdt 3.
8-Oct-20 | WA | Tacoma | Tacoma Narrows | 0/2829 | 7/28/20 | RNAV (GPS) RWY 17, Orig-B.
8-Oct-20 | WA | Tacoma | Tacoma Narrows | 0/2830 | 7/28/20 | RNAV (GPS) RWY 35, Orig-B.
8-Oct-20 | SC | Sumter | Sumter | 0/3342 | 7/29/20 | RNAV (GPS) RWY 5, Orig.
8-Oct-20 | SC | Sumter | Sumter | 0/3344 | 7/29/20 | NDB RWY 23, Amdt 3.
8-Oct-20 | MA | Nantucket | Nantucket Memorial | 0/3452 | 8/18/20 | VOR RWY 24, Amdt 14A.
8-Oct-20 | IL | Paris | Edgar County | 0/3453 | 8/18/20 | VOR/DME-A, Amdt 8.
8-Oct-20 | OR | Portland | Portland-Hillsboro | 0/3605 | 8/18/20 | ILS OR LOC RWY 13R, Amdt 11.
8-Oct-20 | TX | Bridgeport | Bridgeport Muni | 0/3780 | 8/3/20 | VOR/DME RWY 18, Amdt 1.
8-Oct-20 | TX | Bridgeport | Bridgeport Muni | 0/3782 | 8/3/20 | RNAV (GPS) RWY 18, Orig-A.
8-Oct-20 | OH | Washington Court House | Fayette County | 0/3784 | 8/3/20 | NDB RWY 23, Amdt 5A.
8-Oct-20 | MA | Southbridge | Southbridge Muni | 0/3803 | 7/29/20 | RNAV (GPS) RWY 2, Orig- B.
8-Oct-20 | NM | Santa Teresa | Dona Ana County Intl Jetport | 0/3805 | 7/28/20 | RNAV (GPS) RWY 10, Orig-B.
8-Oct-20 | TX | Rocksprings | Edwards County | 0/4064 | 8/3/20 | VOR RWY 14, Amdt 5B.
8-Oct-20 | TX | Rocksprings | Edwards County | 0/4065 | 8/3/20 | RNAV (GPS) RWY 14, Orig-B.
8-Oct-20 | ME | Augusta | Augusta State | 0/4432 | 7/29/20 | ILS OR LOC RWY 17, Amct 3B.
8-Oct-20 | ME | Augusta | Augusta State | 0/4433 | 7/29/20 | RNAV (GPS) RWY 17, Orig-A.
8-Oct-20 | ME | Augusta | Augusta State | 0/4434 | 7/29/20 | VOR RWY 35, Amdt 6A.
8-Oct-20 | FL | Tampa | Tampa Intl | 0/4465 | 7/29/20 | RNAV (GPS) RWY 1L, Amdt 2C.
8-Oct-20 | FL | Tampa | Tampa Intl | 0/4466 | 7/29/20 | RNAV (GPS) RWY 1R, Amdt 3.
8-Oct-20 | FL | Tampa | Tampa Intl | 0/4467 | 7/29/20 | RNAV (GPS) RWY 19R, Amdt 2C.
8-Oct-20 | FL | Tampa | Tampa Intl | 0/4468 | 7/29/20 | RNAV (GPS) RWY 28, Amdt 1B.
8-Oct-20 | FL | Tampa | Tampa Intl | 0/4469 | 7/29/20 | RNAV (GPS) Z RWY 19L, Amdt 2E.
8-Oct-20 | WV | Philippi | Philippi/Barbour County Rgnl | 0/4491 | 7/29/20 | RNAV (GPS) RWY 26, Orig-A.
8-Oct-20 | CA | Bakersfield | Meadows Field | 0/5190 | 8/18/20 | RNAV (GPS) RWY 12L, Amdt 1C.
8-Oct-20 | KS | Atchison | Amelia Earhart | 0/5895 | 8/4/20 | RNAV (GPS) RWY 16, Orig.
8-Oct-20 | LA | Lake Charles | Lake Charles Rgnl | 0/6069 | 7/31/20 | RNAV (GPS) RWY 15, Amdt 1B.
8-Oct-20 | LA | Lake Charles | Lake Charles Rgnl | 0/6070 | 7/31/20 | RNAV (GPS) RWY 33, Amdt 2B.
8-Oct-20 | LA | Lake Charles | Lake Charles Rgnl | 0/6071 | 7/31/20 | VOR-A, Amdt 14.
8-Oct-20 | LA | Lake Charles | Lake Charles Rgnl | 0/6072 | 7/31/20 | VOR/DME-B, Amdt 8.
8-Oct-20 | NM | Tucumcari | Tucumcari Muni | 0/6085 | 7/31/20 | RNAV (GPS) RWY 21, Orig.
8-Oct-20 | NM | Tucumcari | Tucumcari Muni | 0/6086 | 7/31/20 | VOR RWY 21, Amdt 6.
8-Oct-20 | TX | Cotulla | Cotulla-La Salle County | 0/6448 | 8/3/20 | VOR-A, Amdt 13.
8-Oct-20 | NJ | Somerville | Somerset | 0/6449 | 7/31/20 | VOR RWY 8, Amdt 12A.
8-Oct-20 | TX | Taylor | Taylor Muni | 0/6450 | 8/3/20 | VOR RWY 17, Amdt 1D.
8-Oct-20 | WI | Sturgeon Bay | Door County Cherryland | 0/6459 | 8/4/20 | RNAV (GPS) RWY 10, Orig-B.
8-Oct-20 | WI | Sturgeon Bay | Door County Cherryland | 0/6460 | 8/4/20 | RNAV (GPS) RWY 28, Orig-B.
8-Oct-20 | WI | Juneau | Dodge County | 0/6461 | 8/3/20 | LOC RWY 26, Amdt 1.
8-Oct-20 | WI | Juneau | Dodge County | 0/6463 | 8/3/20 | RNAV (GPS) RWY 2, Amdt 1.
8-Oct-20 | WI | Juneau | Dodge County | 0/6466 | 8/3/20 | RNAV (GPS) RWY 8, Orig.
8-Oct-20 | WI | Juneau | Dodge County | 0/6467 | 8/3/20 | RNAV (GPS) RWY 20, Amdt 1.
8-Oct-20 | WI | Juneau | Dodge County | 0/6468 | 8/3/20 | RNAV (GPS) RWY 26, Orig.
8-Oct-20 | VA | Norfolk | Norfolk Intl | 0/6479 | 7/31/20 | RNAV (GPS) RWY 32, Orig-E.
8-Oct-20 | VA | Norfolk | Norfolk Intl | 0/6480 | 7/31/20 | VOR/DME RWY 32, Amdt 4E.
8-Oct-20 | KS | Garden City | Garden City Rgnl | 0/6491 | 8/3/20 | RNAV (GPS) RWY 17, Orig-A.
8-Oct-20 | KS | Garden City | Garden City Rgnl | 0/6492 | 8/3/20 | RNAV (GPS) RWY 30, Orig-A.
8-Oct-20 | KS | Garden City | Garden City Rgnl | 0/6493 | 8/3/20 | RNAV (GPS) RWY 35, Orig-A.
8-Oct-20 | KS | Garden City | Garden City Rgnl | 0/6494 | 8/3/20 | VOR RWY 35, Amdt 2A.
8-Oct-20 | KS | Garden City | Garden City Rgnl | 0/6495 | 8/3/20 | VOR/DME RWY 12, Orig- B.
8-Oct-20 | KS | Garden City | Garden City Rgnl | 0/6496 | 8/3/20 | VOR/DME RWY 17, Amdt 2A.
8-Oct-20 | KS | Garden City | Garden City Rgnl | 0/6497 | 8/3/20 | VOR/DME RWY 30, Amdt 1A.
8-Oct-20 | KS | Garden City | Garden City Rgnl | 0/6498 | 8/3/20 | VOR RWY 17, Amdt 11A.
8-Oct-20 | TX | Harlingen | Valley Intl | 0/6513 | 8/3/20 | LOC/DME BC RWY 35L, Orig.
8-Oct-20 | TX | Harlingen | Valley Intl | 0/6514 | 8/3/20 | RNAV (GPS) RWY 17L, Amdt 2B.
8-Oct-20 | TX | Harlingen | Valley Intl | 0/6515 | 8/3/20 | RNAV (GPS) RWY 35R, Orig-A.
8-Oct-20 | TX | Harlingen | Valley Intl | 0/6517 | 8/3/20 | RNAV (GPS) Y RWY 13, Amdt 2A.
8-Oct-20 | TX | Harlingen | Valley Intl | 0/6518 | 8/3/20 | RNAV (GPS) Y RWY 17R, Amdt 2B.
8-Oct-20 | TX | Harlingen | Valley Intl | 0/6519 | 8/3/20 | RNAV (GPS) Y RWY 35L, Amdt 2A.
8-Oct-20 | TX | Harlingen | Valley Intl | 0/6520 | 8/3/20 | VOR/DME RWY 35L, Orig-A.
8-Oct-20 | TX | Harlingen | Valley Intl | 0/6521 | 8/3/20 | VOR/DME Y OR TACAN RWY 31, Amdt 1A.
8-Oct-20 | IA | Davenport | Davenport Muni | 0/6549 | 8/3/20 | ILS OR LOC RWY 15, Amdt 1C.
8-Oct-20 | IA | Davenport | Davenport Muni | 0/6550 | 8/3/20 | RNAV (GPS) RWY 15, Amdt 2C.
8-Oct-20 | IA | Davenport | Davenport Muni | 0/6551 | 8/3/20 | RNAV (GPS) RWY 21, Amdt 1E.
8-Oct-20 | IA | Davenport | Davenport Muni | 0/6555 | 8/3/20 | RNAV (GPS) RWY 3, Amdt 1D.
8-Oct-20 | IA | Davenport | Davenport Muni | 0/6556 | 8/3/20 | RNAV (GPS) RWY 33, Amdt 1D.
8-Oct-20 | IA | Davenport | Davenport Muni | 0/6557 | 8/3/20 | VOR RWY 21, Amdt 8C.
8-Oct-20 | IA | Davenport | Davenport Muni | 0/6558 | 8/3/20 | VOR RWY 3, Amdt 9B.
8-Oct-20 | MS | Mc Comb | Mc Comb/Pike County/John E Lewis Field | 0/6571 | 7/31/20 | VOR/DME-A, Amdt 8.
8-Oct-20 | TX | Port Lavaca | Calhoun County | 0/6574 | 8/3/20 | VOR/DME-A, Amdt 4C.
8-Oct-20 | LA | Monroe | Monroe Rgnl | 0/6575 | 8/3/20 | ILS OR LOC RWY 4, Amdt 23B.
8-Oct-20 | LA | Monroe | Monroe Rgnl | 0/6576 | 8/3/20 | RNAV (GPS) RWY 4, Amdt 1B.
8-Oct-20 | LA | Monroe | Monroe Rgnl | 0/6577 | 8/3/20 | RNAV (GPS) RWY 32, Orig-C.
8-Oct-20 | LA | Monroe | Monroe Rgnl | 0/6578 | 8/3/20 | RADAR 1, Amdt 7A.
8-Oct-20 | OH | Harrison | Cincinnati West | 0/6923 | 8/4/20 | Takeoff Minimums and Obstacle DP, Amdt 2.
8-Oct-20 | IA | Shenandoah | Shenandoah Muni | 0/7808 | 8/6/20 | VOR/DME RWY 12, Amdt 4B.
8-Oct-20 | FL | West Palm Beach | North Palm Beach County General Aviation | 0/7824 | 8/4/20 | RNAV (GPS) RWY 14, Amdt 1.
8-Oct-20 | FL | St Augustine | Northeast Florida Rgnl | 0/7828 | 8/4/20 | RNAV (GPS) RWY 13, Orig-E.
8-Oct-20 | OR | Astoria | Astoria Rgnl | 0/7831 | 8/3/20 | VOR RWY 8, Amdt 12A.
8-Oct-20 | IN | Indianapolis | Indianapolis Intl | 0/7833 | 8/6/20 | ILS OR LOC RWY 5L, ILS RWY 5L (CAT II AND III), Amdt 5.
8-Oct-20 | OK | Hinton | Hinton Muni | 0/7836 | 8/5/20 | RNAV (GPS) RWY 17, Amdt 1A.
8-Oct-20 | CA | Hawthorne | Jack Northrop Field/Hawthorne Muni | 0/7837 | 8/4/20 | LOC RWY 25, Amdt 12.
8-Oct-20 | MD | Clinton | Washington Executive/Hyde Field | 0/7838 | 8/6/20 | RNAV (GPS) RWY 5, Orig- B.
8-Oct-20 | OH | Fostoria | Fostoria Metropolitan | 0/7839 | 8/6/20 | VOR-A, Amdt 4B.
8-Oct-20 | NJ | Manville | Central Jersey Rgnl | 0/7844 | 8/4/20 | RNAV (GPS) RWY 7, Amct 1C.
8-Oct-20 | WI | Land O' Lakes | Kings Land O' Lakes | 0/7849 | 8/6/20 | RNAV (GPS) RWY 14, Orig-A.
8-Oct-20 | WI | Land O' Lakes | Kings Land O' Lakes | 0/7850 | 8/6/20 | RNAV (GPS) RWY 32, Orig-A.
8-Oct-20 | IA | Des Moines | Des Moines Intl | 0/7854 | 8/6/20 | ILS OR LOC RWY 5, Amdt 1.
8-Oct-20 | MS | Natchez | Hardy-Anders Field Natchez-Adams County | 0/8446 | 8/5/20 | RNAV (GPS) RWY 36, Amdt 1B.
8-Oct-20 | AL | Oneonta | Robbins Field | 0/8451 | 8/5/20 | RNAV (GPS) RWY 24, Orig-A.
8-Oct-20 | LA | Abbeville | Abbeville Chris Crusta Memorial | 0/8464 | 8/6/20 | RNAV (GPS) RWY 16, Amdt 1A.
8-Oct-20 | LA | Abbeville | Abbeville Chris Crusta Memorial | 0/8465 | 8/6/20 | RNAV (GPS) RWY 34, Amdt 1A.
8-Oct-20 | LA | Abbeville | Abbeville Chris Crusta Memorial | 0/8466 | 8/6/20 | VOR/DME-B, Amdt 3B.
8-Oct-20 | SD | Pierre | Pierre Rgnl | 0/8471 | 8/6/20 | RNAV (GPS) RWY 7, Amdt 2.
8-Oct-20 | SD | Pierre | Pierre Rgnl | 0/8472 | 8/6/20 | RNAV (GPS) RWY 13, Amdt 2.
8-Oct-20 | SD | Pierre | Pierre Rgnl | 0/8473 | 8/6/20 | VOR/DME OR TACAN RWY 7, Amdt 5B.
8-Oct-20 | SD | Pierre | Pierre Rgnl | 0/8474 | 8/6/20 | VOR OR TACAN RWY 25, Orig-B.
8-Oct-20 | TX | Tyler | Tyler Pounds Rgnl | 0/8968 | 8/6/20 | RNAV (GPS) RWY 4, Amdt 4.
8-Oct-20 | IL | Chicago/West Chicago | Dupage | 0/9013 | 8/6/20 | ILS OR LOC RWY 2L, Amdt 2F.
8-Oct-20 | TX | Decatur | Decatur Muni | 0/9026 | 8/6/20 | RNAV (GPS) RWY 17, Orig.
8-Oct-20 | TX | Decatur | Decatur Muni | 0/9027 | 8/6/20 | RNAV (GPS) RWY 35, Orig-A.
8-Oct-20 | TX | Decatur | Decatur Muni | 0/9028 | 8/6/20 | VOR/DME RWY 17, Amdt 2A.

[FR Doc. 2020-19425 Filed 9-2-20; 8:45 am]

BILLING CODE 4910-13-P